DEPARTMENT OF THE INTERIOR

Bureau of Land Management

[BLM_ID_FRN_MO4500167688]

Notice of Public Meetings of the Idaho Resource Advisory Council and the Lava Ridge Wind Project Subcommittee

AGENCY: Bureau of Land Management, Interior.

ACTION: Notice of meetings.

SUMMARY: In accordance with the Federal Land Policy and Management Act of 1976 and the Federal Advisory Committee Act of 1972, the U.S. Department of the Interior, Bureau of Land Management's (BLM) Idaho Resource Advisory Council (RAC) and the Lava Ridge Wind Project Subcommittee (Subcommittee) will meet as follows.

DATES: The Subcommittee will host a meeting on Wednesday, Jan. 25, 2023, from 10 a.m. to 12 noon with public comments accepted at 11:15 a.m. Mountain Standard Time (MST). The Subcommittee will also host a meeting on Wednesday, Feb. 8, 2023, from 9 a.m. to 4:45 p.m., with public comments accepted at 2:30 p.m. MST.

The Idaho RAC will host a meeting on Thursday, March 9, 2023, from 9 a.m. to 5 p.m., with public comments accepted at 3 p.m. MST. The Idaho RAC will also host an in-person field tour on Wednesday, May 31, 2023, from 9 a.m. to 4 p.m. Mountain Daylight Time (MDT). The Idaho RAC will then host a meeting on June 1, 2023, from 9 a.m. to 5 p.m., with public comments accepted at 3 p.m. MDT. Public notice of any changes to this schedule will be posted on the Idaho RAC or the Subcommittee web pages (see ADDRESSES) 15 days in advance of each of the respective meetings.

ADDRESSES: The Subcommittee and Idaho RAC meetings in January, February, and March will take place at the BLM Twin Falls District Office, 2878 Addison Ave. E, Twin Falls, ID 83301. The Idaho RAC in-person field tour in May will commence at the BLM Boise District Office, 3948 S Development Ave., Boise, ID 83705 with the June meeting to be held at the BLM Idaho State Office, 1387 S Vinnell Way, Boise, ID 83709. A virtual participation option will be offered on the Zoom platform for the January and February Subcommittee meetings and registration information will be available on the Subcommittee's web page 30 days in advance of the meeting at https://www.blm.gov/get-involved/resource-advisory-council/near-you/idaho/lava-ridge-subcommittee. Virtual participation options will also be offered on the Zoom platform for the March 9 and June 1 RAC meetings and registration information will be available on the RAC's web page 30 days in advance of the meeting at https://www.blm.gov/get-involved/resource-advisory-council/near-you/idaho.

FOR FURTHER INFORMATION CONTACT: Idaho RAC Coordinator MJ Byrne, telephone: (208) 373-4006, email: mbyrne@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Idaho RAC serves in an advisory capacity to BLM officials concerning issues relating to land use planning and management of public land resources located within the State of Idaho. The Idaho RAC is chartered and the 15 members are appointed by the Secretary of the Interior. Their diverse perspectives are represented in commodity, non-commodity, and local interests. The Idaho RAC's Lava Ridge Wind Project Subcommittee's purpose is to compile information, conduct research, and report their findings to the full RAC for consideration and formation of recommendations. The BLM Shoshone Field Office is currently developing an environmental impact statement to analyze the Lava Ridge Wind Project, a commercial-scale wind energy facility that is proposed to be constructed on BLM-managed public land in southern Idaho.

The Jan. 25, 2023, Subcommittee meeting will include a review of the Lava Ridge Wind Project Draft Environmental Impact Statement (EIS) and alternatives. The Feb. 8, 2023, Subcommittee meeting will focus on compiling information and drafting any recommendations for consideration to the Idaho RAC on the draft EIS. The Subcommittee will present its findings and any recommendations during the March 9, 2023, Idaho RAC meeting. Additional agenda items include State Office and District updates, time permitting. The May 31, 2023, Idaho RAC in-person field tour will feature BLM Boise District public land management projects. The June 1, 2023, Idaho RAC meeting will feature presentations about fuels and fire restoration and recreation, as well as Division and District updates. Final agendas will be posted on the RAC and Subcommittee web pages listed in the ADDRESSES section of this notice.

All meetings and field tours are open to the public, but members of the public who wish to participate in the tour must provide their own transportation and meals. Individuals who plan to attend and need special assistance, such as sign language interpretation or other reasonable accommodations, should contact the BLM (see FOR FURTHER INFORMATION CONTACT). Each Idaho RAC and Subcommittee meeting will have time allocated for public comments. Depending on the number of persons wishing to speak and the time available, the amount of time for oral comments may be limited. Written public comments may be sent to the BLM Idaho State Office listed in the ADDRESSES section of this notice. All comments received at least 1 week prior to the meeting will be provided to the Idaho RAC or Subcommittee, respectively. Please include “RAC comment” or “Lava Ridge Subcommittee comment” in your submission.

Before including your address, phone number, email address, or other personal identifying information in your comments, please be aware that your entire comment—including your personal identifying information—may be made publicly available at any time. While you can ask us in your comments to withhold your personal identifying information from public review, we cannot guarantee that we will be able to do so.

Detailed summary minutes for the Idaho RAC and Subcommittee meetings will be maintained in the BLM Idaho State Office and will be available for public inspection and reproduction during regular business hours within 30 days of the meetings. Previous minutes and agendas are also available on the Idaho RAC and Subcommittee web pages listed above.

(Authority: 43 CFR 1784.4-2)

Karen Kelleher,
Idaho State Director.

[FR Doc. 2022-27627 Filed 12-19-22; 8:45 am]

BILLING CODE 4331-19-P